DEPARTMENT OF JUSTICE

Antitrust Division

Notice Pursuant to the National Cooperative Research and Production Act of 1993—Z-Wave Alliance, Inc.

Notice is hereby given that, on June 20, 2022, pursuant to section 6(a) of the National Cooperative Research and Production Act of 1993, 15 U.S.C. 4301 et seq. (the “Act”), Z-Wave Alliance, Inc. (the “Joint Venture”) filed written notifications simultaneously with the Attorney General and the Federal Trade Commission disclosing changes in its membership. The notifications were filed for the purpose of extending the Act's provisions limiting the recovery of antitrust plaintiffs to actual damages under specified circumstances.

Specifically, Establishment Hulul al-Manazil For Real Estate Development, Jedda City, SAUDI ARABIA; Card Access Engineering, LLC, Draper, UT; Pin Genie, Inc. DBA Lockly, St. Paul, MN; Trinitas All Electric, LLC, Opelousas, LA; and NexMetro Development, LLC, Phoenix, AZ have joined as parties to the venture.

In addition, the following existing members have made the following changes: Hogar Controls Inc., changed its name to Hogar Controls US LLC, Sterling, VA; SmartRent.com, Inc. changed its name to SmartRent Technologies, Inc., Scottsdale, AZ; and Black Nova Corp. Limited changed its name to Black Nova Italia srl, Central, HONG KONG.

No other changes have been made in either the membership or the planned activity of the venture. Membership in this venture remains open, and the Joint Venture intends to file additional written notifications disclosing all changes in membership.

On November 19, 2020, the Joint Venture filed its original notification pursuant to section 6(a) of the Act. The Department of Justice published a notice in the Federal Register pursuant to section 6(b) of the Act on December 1, 2020 (85 FR 77241).

The last notification was filed with the Department on March 22, 2022. A notice was published in the Federal Register pursuant to section 6(b) of the Act on May 13, 2022 (87 FR 29386).

Suzanne Morris,
Chief, Premerger and Division Statistics Antitrust Division.

[FR Doc. 2022-18641 Filed 8-29-22; 8:45 am]

BILLING CODE P